INTERNATIONAL TRADE COMMISSION

[Investigation Nos. 731-TA-1099-1101 (Preliminary)]

Carbon and Certain Alloy Steel Wire Rod From China, Germany, and Turkey

Determinations

On the basis of the record ¹ developed in the subject investigations, the United States International Trade Commission (Commission) determines, pursuant to section 733(a) of the Tariff Act of 1930 (19 U.S.C. 1673b(a)) (the Act), that there is no reasonable indication that an industry in the United States is materially injured or threatened with material injury, or that the establishment of an industry in the United States is materially retarded, by reason of imports from China, Germany, and Turkey of carbon and certain alloy steel wire rod, provided for in subheadings 7213.91.30, 7213.91.45, 7213.91.60, 7213.99.00, 7227.20.00, and 7227.90.60 of the Harmonized Tariff Schedule of the United States, that are alleged to be sold in the United States at less than fair value (LTFV).

¹ The record is defined in sec. 207.2(f) of the Commission's Rule of Practice and Procedure (19 CFR 207.2(f)).

Background

On November 10, 2005, a petition was filed with the Commission and the U.S. Department of Commerce by Connecticut Steel Corp., Wallingford, CT; Gerdau AmeriSteel U.S. Inc., Tampa, FL; Keystone Steel & Wire Company, Peoria, IL; Mittal Steel USA Georgetown, Georgetown, SC; and Rocky Mountain Steel Mills, Pueblo, CO, alleging that an industry in the United States is materially injured and threatened with material injury by reason of LTFV imports of carbon and certain alloy steel wire rod from China, Germany, and Turkey. Accordingly, effective November 10, 2005, the Commission instituted antidumping duty investigation Nos. 731-TA-1099-1101 (Preliminary).

Notice of the institution of the Commission's investigations and of a public conference to be held in connection therewith was given by posting copies of the notice in the Office of the Secretary, U.S. International Trade Commission, Washington, DC, and by publishing the notice in the Federal Register of November 18, 2005 (70 FR 69988). The conference was held in Washington, DC, on December 1, 2005, and all persons who requested the opportunity were permitted to appear in person or by counsel.

The Commission will transmit its determinations in these investigations to the Secretary of Commerce on January 4, 2006. The views of the Commission will be contained in USITC Publication 3832 (January 2006), entitled Carbon and Certain Alloy Steel Wire Rod from China, Germany, and Turkey: Investigation Nos. 731-TA-1099-1101 (Preliminary).

Issued: December 27, 2005.
By order of the Commission.
Marilyn R. Abbott,
Secretary to the Commission.

[FR Doc. E5-8207 Filed 12-30-05; 8:45 am]

BILLING CODE 7020-02-P